CONSUMER PRODUCT SAFETY COMMISSION

[CPSC Docket No. 21.1]

Notice of Prehearing Conference

AGENCY: Consumer Product Safety Commission.

ACTION: Notice.

SUMMARY: Notice of prehearing conference for In the Matter of thyssenkrupp Access Corp., Inc.; CPSC Docket No. 21-1.

DATES: Wednesday, October 20, 2021 at 11:00 a.m. Eastern Time.

ADDRESSES: This event will be held remotely; Call-in Number: 888-370-8496; Passcode: 69953050

FOR FURTHER INFORMATION CONTACT: Alberta E. Mills, Consumer Product Safety Commission, Office of the General Counsel, Division of the Secretariat, cpsc-os@cpsc.gov; 240-863-8938; 301-504-7479.

SUPPLEMENTARY INFORMATION: Issues to be discussed at the conference are the items numbered (1) through (14) in 16 CFR 1025.21(a). The text of the Presiding Officer's September 29, 2021 Order Scheduling Prehearing Conference appears below.

Authority: Consumer Product Safety Act, 15 U.S.C. 2064.

Dated: September 29, 2021.
Alberta E. Mills,
Secretary, Consumer Product Safety Commission.

United States of America

Consumer Product Safety Commission

In the Matter of thyssenkrupp Access Corp., CPSC Docket No. 21-1

September 29, 2021

Order Scheduling Prehearing Conference

Pursuant to 16 CFR 1025.21, the undersigned Administrative Law Judge hereby schedules a prehearing conference in the above matter. In view of the social distancing precautions necessitated by the ongoing Covid-19 pandemic, the prehearing conference shall be held by telephone as follows:

Date: Wednesday, October 20, 2021.

Time: 11:00 a.m. Eastern Time.

Call-in Number: 888-370-8496; Passcode: 69953050.

In accordance with 16 CFR 1025.21(b), the issues to be addressed at the conference are the items numbered (1) through (14) in 16 CFR 1025.21(a). If the time of the conference is infeasible for any party, that party should promptly file a motion for a continuance. I direct that notice of this conference and a statement of the issues to be discussed shall be published in the Federal Register at least ten days in advance of the scheduled date. 16 CFR 1025.21(b)

A ruling on the parties' Joint Motion to Amend Discovery Schedule and for Protective Order will be forthcoming.

So ordered.

Done and dated September 29, 2021

Arlington, VA

/s/

Mary F. Withum,

Administrative Law Judge.

[FR Doc. 2021-21636 Filed 10-4-21; 8:45 am]

BILLING CODE 6355-01-P